DEPARTMENT OF COMMERCE

Foreign-Trade Zones Board

[Order No. 1253]

Approval of Request for Manufacturing Authority Within Foreign-Trade Zone 126; Reno, NV (Personal Computers)

Pursuant to its authority under the Foreign-Trade Zones Act of June 18, 1934, as amended (19 U.S.C. 81a-81u), the Foreign-Trade Zones Board (the Board) adopts the following Order:

Whereas, the Economic Development Authority of Western Nevada, grantee of FTZ 126, has requested authority under 15 CFR 400.32(b)(1) of the Board's regulations on behalf of Dell Computer to manufacture personal computers under zone procedures within Site 5 of FTZ 126 (filed 3-14-2002, FTZ Docket 17-2002);

Whereas, notice inviting public comment was given in Federal Register (67 FR 13125, 3/21/2002) and the application has been processed pursuant to the FTZ Act and the Board's regulations;

Whereas, pursuant to 15 CFR 400.32(b)(1), the Commerce Department's Assistant Secretary for Import Administration has the authority to act for the Board in making such decisions on new manufacturing/processing activity under certain circumstances, including situations where the activity is the same, in terms of products involved, as activity recently approved by the Board and similar in circumstances (15 CFR 400.32(b)(1)(i)); and,

Whereas, the FTZ Staff has reviewed the proposal, taking into account the criteria of 15 CFR 400.31, and the Executive Secretary has recommended approval;

Now, therefore, the Assistant Secretary for Import Administration, acting for the Board pursuant to 15 CFR 400.32(b)(1), concurs in the recommendation and hereby approves the request subject to the Act and the Board's regulations, including 15 CFR 400.28.

Signed at Washington, DC, this 4th day of November 2002.
Faryar Shirzad,
Assistant Secretary of Commerce for Import Administration, Alternate Chairman, Foreign-Trade Zones Board.

[FR Doc. 02-28815 Filed 11-12-02; 8:45 am]

BILLING CODE 3510-DS-P